DEPARTMENT OF ENERGY

Federal Energy Regulatory Commission

[Project No. 2901-008 and Project No. 2902-009]

Nekoosa Packaging Corporation; Notice of Availability of Final Environmental Assessment

October 12, 2001.

In accordance with the National Environmental Policy Act of 1969 and the Federal Energy Regulatory Commission's (Commission) regulations, 18 CFR part 380 (Order No. 486, 52 FR 47897), the Office of Energy Projects has reviewed the application for license for the Big Island Hydroelectric Project and the Holcomb Rock Hydroelectric Project, located on the James River in Bedford and Amherst Counties, Virginia, and has prepared a Final Environmental Assessment (FEA) for the project. No federal lands or Indian reservations are occupied by project works or located within the project boundary.

The FEA contains the staff's analysis of the potential environmental impacts of the project and concludes that licensing the project, with appropriate environmental protective measures, would not constitute a major federal action that would significantly affect the quality of the human environment.

Copies of the FEA are available for review at the Commission's Public Reference Room, located at 888 First Street, NE., Washington, DC 20426, or by calling (202) 208-1371. The FEA may also be viewed on the web at http://www.ferec.gov using the “RIMS” link, select “Docket#” and follow the instructions (call 202-208-2222 for assistance).

David P. Boergers,
Secretary.

[FR Doc. 01-26247 Filed 10-17-01; 8:45 am]

BILLING CODE 6717-01-P